DEPARTMENT OF LABOR

Employment and Training Administration

TA-W-35,196

New Monarch Machine Tool, Inc. Formerly Known as Monarch Machine Tool Company Cortland, NY; Amended Certification Regarding Eligibility To Apply for Worker Adjustment Assistance

In accordance with Section 223 of the Trade Act of 1974 (19 USC 2273) the Department of Labor issued a Certification of Eligibility to Apply for Worker Adjustment Assistance on December 2, 1998, applicable to workers of Monarch Machine Tool Co., Cortland, New York. The notice was published in the Federal Register on December 23, 1998 (63 FR 71165).

At the request of the State agency, the Department reviewed the certification for workers of the subject firm. The workers are engaged in the production of vertical machining centers. Findings show that Monarch Machine Tool Co. was sold in February, 2000 to local management and is now known as New Monarch Machine Tool, Inc. The Department is amending the certification determination to correctly identify the new title name to read “New Monarch Machine Tool, Inc., (formerly known as Monarch Machine Tool Co.)”, Cortland, New York.

The amended notice applicable to TA-W-35,196 is hereby issued as follows:

All workers of New Monarch Machine Tool, Inc. (formerly known as Monarch Machine Tool Co.), Cortland, New York who became totally or partially separated from employment on or after October 28, 1997 through December 2, 2000 are eligible to apply for adjustment assistance under Section 223 of the Trade Act of 1974.

Dated: Signed at Washington, D.C. this 25th day of April, 2000.
Grant D. Beale,
Program Manager, Division of Trade Adjustment Assistance.

[FR Doc. 00-11111 Filed 5-3-00; 8:45 am]

BILLING CODE 4510-30-M